DEPARTMENT OF THE INTERIOR

Bureau of Indian Affairs

Notice of Intent To Prepare an Environmental Impact Statement for the Proposed Stockbridge-Munsee, Casino, Sullivan County, NY

AGENCY: Bureau of Indian Affairs, Interior.

ACTION: Notice.

SUMMARY: This notice advises the public that the Bureau of Indian Affairs, with the cooperation of the Stockbridge-Munsee Community, Band of Mohican Indians (Tribe), intends to gather the information necessary for preparing an Environmental Impact Statement (EIS) for the proposed Stockbridge-Munsee Casino, Town of Thompson, Sullivan County, New York. The purpose of the proposed action is to help the Stockbridge-Munsee Community meet tribal economic needs and to serve as one part of the land claim settlement between the Tribe and the State of New York. This notice also announces a public scoping meeting to identify potential issues and content for inclusion in the EIS.

DATES: Written comments on the scope and implementation of this proposal must arrive by December 19, 2003. The public scoping meeting will be held December 4, 2003, at 7 p.m.

ADDRESSES: You may mail, hand carry or telefax written comments to, Franklin Keel, Regional Director, Eastern Regional Office, Bureau of Indian Affairs, 711 Stewarts Ferry Pike, Nashville, Tennessee 37214, telefax (615) 467-1701.

The public scoping meeting will be held at the Sullivan County Government Center, Legislative Meeting Room, 2nd Floor, 100 North Street, Monticello, New York 12701.

FOR FURTHER INFORMATION CONTACT: Jim Kardatzke, (615) 467-1675.

SUPPLEMENTARY INFORMATION: The Tribe proposes that 333 acres of land into trust on behalf of the Tribe, on which the Tribe, through a development agreement with trading Cove New York, proposes to build a casino. The property is located on County Highway 161 at State Route 17, Exit 107, in the town of Thompson, Sullivan County, New York. The project would consist of a 584,000 square foot casino and supporting facilities, including food and beverage outlets, retail facilities, a service station, a warehouse and parking, to be constructed entirely on the proposed trust acquisition. In a second phase of the proposed project, a hotel would be built immediately adjacent to the casino.

The Tribe prepared and submitted to the BIA an Environmental Assessment (EA) on the proposed action in February, 2001, that was released for public comment in December, 2002. The BIA has withdrawn this EA and elected to complete an EIS. The EA will, however, serve as a part of the scoping process for the EIS.

Issues identified to date to be addressed in the EIS include, but are not limited to the following:

• Soil erosion and sediment control—design of construction controls to manage exposed soils.

• Stormwater management—design of stormwater controls to manage runoff from the developed area from both a water quality and quantity standpoint.

• Wetlands—minimization and avoidance of direct or indirect wetland impacts and mitigation plans for unavoidable impacts.

• Wildlife and fisheries—measures to avoid and minimize impacts to species, including listed species.

• Historical and archeological resources—identification and avoidance of cultural resources.

• Traffic—analysis of future traffic and proposal of adequate mitigation.

• Air quality—analysis of local and regional air quality impacts from mobile sources.

• Socio-economic—project effects on local economy (including population and housing) and public services.

• Utilities—provision of water supply and wastewater treatment to the project and how provision of those services may affect existing capacities.

• Cumulative effects—review of cumulative environmental impacts of the project when considered together with other reasonably foreseeable development projects in the region.

• Alternatives to the preferred alternative.

The range of issues and alternatives addressed in the EIS may be further expanded based on comments received in response to this notice, or to the scoping meeting announced in this notice.

Public Comment Availability

Comments, including names and addresses of respondents, will be available for public review at the mailing address shown in the ADDRESSES section, during regular business hours, 8 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses will be made available for public inspection in their entirety.

Authority

This notice is published in accordance with section 1503.1 of the Council on Environmental Quality Regulations (40 CFR parts 1500 through 1508) implementing the procedural requirements of the National Environmental Policy Act of 1969, as amended (42 U.S.C. 4321 et seq.), and the Department of the Interior Manual (516 DM 1-6), and is in the exercise of authority delegated to the Assistant Secretary—Indian Affairs by 209 DM 8.

Dated: November 12, 2003.
Aurene M. Martin,
Principal Deputy Assistant Secretary—Indian Affairs.

[FR Doc. 03-29087 Filed 11-19-03; 8:45 am]

BILLING CODE 4310-W7-P